COMMISSION ON CIVIL RIGHTS

Notice of Public Meetings of the New Mexico Advisory Committee to the Commission on Civil Rights

AGENCY: Commission on Civil Rights.

ACTION: Announcement of meetings.

SUMMARY: Notice is hereby given, pursuant to the provisions of the rules and regulations of the U.S. Commission on Civil Rights (Commission) and the Federal Advisory Committee Act that the New Mexico Advisory Committee (Committee) will hold a series of meetings via teleconference on Wednesday, October 7, 21, and Wednesday, November 4, 18, and Monday, November 30, 2020 at 2:00 p.m. Mountain Time for the purpose of discussing a draft of the Committee's Advisory Memorandum on Wage Theft and Subminimum Wages.

DATES: These meetings will be held on:

• Wednesday, October 7, 2020 at 2:00 p.m. Mountain Time

• Wednesday October 21, 2020 at 2:00 p.m. Mountain Time

• Wednesday, November 4, 2020 at 2:00 p.m. Mountain Time

• Wednesday, November 18, 2020 at 2:00 p.m. Mountain Time

• Monday, November 30, 2020 at 2:00 p.m. Mountain Time

Public Call Information: Dial: 800-437-2398, Conference ID: 5499756

FOR FURTHER INFORMATION CONTACT: Brooke Peery, Designated Federal Officer (DFO), at bpeery@usccr.gov or (202) 701-1376.

SUPPLEMENTARY INFORMATION: Members of the public may listen to the discussion. This meeting is available to the public through the above listed toll-free number. An open comment period will be provided to allow members of the public to make a statement as time allows. The conference call operator will ask callers to identify themselves, the organization they are affiliated with (if any), and an email address prior to placing callers into the conference room. Callers can expect to incur regular charges for calls they initiate over wireless lines, according to their wireless plan. The Commission will not refund any incurred charges. Callers will incur no charge for calls they initiate over land-line connections to the toll-free telephone number. Persons with hearing impairments may also follow the proceedings by first calling the Federal Relay Service at 1-800-877-8339 and providing the Service with the conference call number and conference ID number.

Members of the public are also entitled to submit written comments; the comments must be received in the regional office within 30 days following the meeting. Written comments may be mailed to the Regional Programs Unit Office, U.S. Commission on Civil Rights, 300 N. Los Angeles St., Suite 2010, Los Angeles, CA 90012 or emailed to Brooke Peery at bpeery@usccr.gov.

Records generated from this meeting may be inspected and reproduced at the Regional Programs Unit Office, as they become available, both before and after the meeting. Records of the meeting will be available at: https://www.facadatabase.gov/FACA/FACAPublicViewCommitteeDetails?id=a10t0000001gzlGAAQ.

Please click on the “Meeting Details” and “Documents” links. Persons interested in the work of this Committee are also directed to the Commission's website, http://www.usccr.gov, or may contact the Regional Programs Unit office at the above email or street address.

Agenda

I. Welcome and Introductions

II. Approval of Minutes

III. Discussion on Memo Draft

IV. Public Comment

V. Adjournment

Dated: August 10, 2020.
David Mussatt,
Supervisory Chief, Regional Programs Unit.

[FR Doc. 2020-17774 Filed 8-13-20; 8:45 am]

BILLING CODE P